DEPARTMENT OF STATE

[Public Notice 8525]

Defense Trade Advisory Group; Notice of Cancellation of Open Meeting

AGENCY: Department of State.

ACTION: Notice of Cancellation of meeting.

SUMMARY: The notice references Public Notice 8515 published in the November 12, 2013 Federal Register, announcing the public meeting for Defense Trade Advisory Group (DTAG) on November 22, 2013 to discuss current defense trade issues and topics for further study has been cancelled. It will be rescheduled at a later date.

FOR FURTHER INFORMATION CONTACT: Lisa Aguirre, PM/DDTC, SA-1, 12th Floor, Directorate of Defense Trade Controls, Bureau of Political Military Affairs, U.S. Department of State, Washington, DC 20522-0112; telephone (202) 663-2830; FAX (202) 261-8199; or email aguirrelv@state.gov.

Dated: November 12, 2013.
Kenneth B. Handelman,
Designated Federal Officer, Defense Trade Advisory Group, Department of State.

[FR Doc. 2013-27551 Filed 11-15-13; 8:45 am]

BILLING CODE 4710-25-P